DEPARTMENT OF COMMERCE

International Trade Administration

[A-570-010]

Certain Crystalline Silicon Photovoltaic Products From the People's Republic of China: Preliminary Results of Antidumping Duty Administrative Review, Partial Rescission of Antidumping Administrative Review, and Preliminary Determination of No Shipments; 2021-2022

AGENCY: Enforcement and Compliance, International Trade Administration, Department of Commerce.

SUMMARY: This notice contains the preliminary results of the U.S. Department of Commerce's (Commerce) administrative review of the antidumping duty order on certain crystalline silicon photovoltaic products (solar products) from the People's Republic of China (China) covering the period of review (POR) February 1, 2021, through January 31, 2022. Commerce preliminarily finds that the sole mandatory respondent under review sold subject merchandise at prices below normal value (NV) during the POR, that two companies under review had no entries, exports, or sales of solar products during the POR, and that it is appropriate to rescind this review with respect to 54 companies/company groupings because all requests to review these companies/company groupings were timely withdrawn. Interested parties are invited to comment on these preliminary results of review.

DATES: Applicable March 9, 2023.

FOR FURTHER INFORMATION CONTACT: Krisha Hill, AD/CVD Operations, Office IV, Enforcement and Compliance, International Trade Administration, Department of Commerce, 1401 Constitution Avenue NW, Washington, DC 20230; telephone: (202) 482-4037.

SUPPLEMENTARY INFORMATION:

Background

On April 12, 2022, in response to a request from the American Alliance for Solar Manufacturing (the petitioner), Commerce initiated an administrative review of the antidumping duty order on solar products from China ¹ with respect to 62 companies/company groupings.² Subsequently, the petitioner timely withdrew its review request with respect to 54 companies/company groupings.³ On September 30, 2022, Commerce extended the deadline for issuing the preliminary results of this review by 120 days, to February 28, 2023.⁴

¹ See Certain Crystalline Silicon Photovoltaic Products from the People's Republic of China: Antidumping Duty Order; and Amended Final Affirmative Countervailing Duty Determination and Countervailing Duty Order, 80 FR 8592 (February 18, 2015) (Order).

² See Initiation of Antidumping and Countervailing Duty Administrative Reviews, 87 FR 21619 (April 12, 2022) (Initiation Notice). Sixty-three company or company groupings are listed in the Initiation Notice. However, the list includes the name “Trina Solar Co., Ltd.,” and the name of this company before the POR began, Changzhou Trina Solar Energy Co., Ltd. Because both names refer to the same company, we actually initiated the administrative review with respect to only 62 companies or company groupings.

³ See Petitioner's Letter, “Crystalline Silicon Photovoltaic Products from the People's Republic of China: Partial Withdrawal of Request for Administrative Review,” dated July 11, 2022 (Partial Withdrawal).

⁴ See Memorandum, “Certain Crystalline Silicon Photovoltaic Products from the People's Republic of China: Extension of Deadline for the Preliminary Results of the 2021-2022 Antidumping Duty Administrative Review,” dated September 30, 2022.

For details regarding the events that occurred subsequent to initiation of the review, see the Preliminary Decision Memorandum.⁵ A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, the Preliminary Decision Memorandum can be accessed directly at https://access.trade.gov/public/FRNoticesListLayout.aspx.

⁵ See Memorandum “Decision Memorandum for the Preliminary Results of the Antidumping Duty Administrative Review of Certain Crystalline Silicon Photovoltaic Products From the People's Republic of China; 2021-2022,” issued concurrently with, and hereby adopted by, this notice (Preliminary Decision Memorandum).

Scope of the Order

The products covered by the Order are solar products from China.⁶ Merchandise covered by the Order is currently classified in the Harmonized Tariff Schedule of the United States (HTSUS) under subheadings 8501710000, 8501721000, 8501722000, 8501723000, 8501729000, 8501801000, 8501802000, 8501803000, 8501809000, 8507208031, 8507208041, 8507208061, 8507208091, 8541420010, and 8541430010. These HTSUS subheadings are provided for convenience and customs purposes; the written description of the scope of the Order is dispositive.

⁶ For a complete description of the scope of the Order, see the Preliminary Decision Memorandum. Commerce revised certain HTSUS subheadings listed in the scope of the Order based on a request, and information obtained, from U.S. Customs and Border Protection (CBP). See Memorandum, “Update to the ACE AD/CVD Case Reference File,” dated concurrently with this notice.

Partial Rescission of Administrative Review

Pursuant to 19 CFR 351.213(d)(1), because the petitioner timely withdrew its review request with respect to 54 companies/company groupings, Commerce is rescinding this review with respect to those companies which are named in Appendix II to this notice.

Preliminary Determination of No Shipments

Because we found no record evidence calling into question the no-shipment claims of Hubei Trina Solar Energy Co., Ltd. and Trina Solar (Hefei) Science and Technology Co., Ltd., Commerce preliminarily determines that these companies did not sell or export subject merchandise to, nor was their subject merchandise entered into, the United States during the POR. Consistent with Commerce's practice in non-market economy (NME) administrative reviews,⁷ Commerce is not rescinding its review of these two companies but intends to complete this review and issue appropriate instructions to CBP based on the final results of the review.

⁷ See Non-Market Economy Antidumping Proceedings: Assessment of Antidumping Duties, 76 FR 65694, 65694-95 (October 24, 2011).

Preliminary Affiliation and Single Entity Determination

Based on record evidence in this review, as well as Commerce's single entity determination in the 2014-2016 administrative review in this proceeding,⁸ Commerce preliminarily finds that the following companies are affiliated, pursuant to section 771(33)(F) of the Tariff Act of 1930, as amended (the Act), and that they should be treated as a single entity, pursuant to 19 CFR 351.401(f)(1)-(2): Trina Solar (Changzhou) Science & Technology Co., Ltd.; Trina Solar Co., Ltd.; Yancheng Trina Guoneng Photovoltaic Technology Co., Ltd. (a.k.a. Yancheng Trina Solar Guoneng Science & Technology Co., Ltd.); Trina Solar Yiwu Technology Co., Ltd.; Trina Solar (Su Qian) Technology Co., Ltd.; Trina Solar (Yancheng Dafeng) Co., Ltd.; Changzhou Trina Hezhong Photoelectric Co., Ltd. (a.k.a. Changzhou Trina Hezhong PV Co., Ltd.); Changzhou Trina Solar Yabang Energy Co., Ltd.; and Turpan Trina Solar Energy Co., Ltd. (collectively Trina). For additional information, see the Preliminary Decision Memorandum.

⁸ See Certain Crystalline Silicon Photovoltaic Products from the People's Republic of China: Final Results of Antidumping Duty Administrative Review and Final Determination of No Shipments; 2014-2016; 82 FR 32170 (July 12, 2017), under the “Final Results of Review” section.

Separate Rates

Commerce preliminary determines that information placed on the record by Trina demonstrates that it is entitled to separate rate status. Because no party requested a review of the China-wide entity, the entity is not under review and the entity's cash deposit rate (i.e., 152.84 percent ⁹) is not subject to change.¹⁰ For additional information regarding Commerce's preliminary separate rate determination, see the Preliminary Decision Memorandum.

⁹ The China-wide entity cash deposit rate has not changed since the Order and has been the applicable rate for the entity in each subsequent review, including the most recently completed review. See Certain Crystalline Silicon Photovoltaic Products from the People's Republic of China: Final Results of Antidumping Duty Administrative Review and Final Determination of No Shipments; 2014-2016, and Certain Crystalline Silicon Photovoltaic Products from the People's Republic of China: Final Results of Antidumping Duty Administrative Review; 2017-2018; Correction, 86 FR 18504 (April 9, 2021).

¹⁰ See Antidumping Proceedings: Announcement of Change in Department Practice for Respondent Selection in Antidumping Duty Proceedings and Conditional Review of the Nonmarket Economy Entity in NME Antidumping Duty Proceedings, 78 FR 65963 (November 4, 2013).

Methodology

Commerce is conducting this administrative review in accordance with section 751(a)(1)(B) of the Act. We based Trina's dumping margin on a comparison of constructed export prices, which we calculated in accordance with section 772 of the Act, and NV, which we calculated in accordance with section 773(c) of the Act because Commerce has determined that China is an NME country,¹¹ within the meaning of section 771(18) of the Act. For a full description of the methodology underlying the preliminary results of this review, see the Preliminary Decision Memorandum.

¹¹ See Antidumping Duty Investigation of Certain Aluminum Foil from the People's Republic of China: Affirmative Preliminary Determination of Sales at Less-Than-Fair Value and Postponement of Final Determination, 82 FR 50858, 50861 (November 2, 2017) (citing Memorandum, “China's Status as a Non-Market Economy,” dated October 26, 2017), unchanged in Certain Aluminum Foil from the People's Republic of China: Final Determination of Sales at Less Than Fair Value, 83 FR 9282 (March 5, 2018).

Preliminary Results of Review

We are assigning the following dumping margin to the firm listed below for the period February 1, 2021, through January 31, 2022:

Exporter | Weighted-average dumping margin (percent)
Trina Solar (Changzhou) Science & Technology Co., Ltd./Trina Solar Co., Ltd./Yancheng Trina Guoneng Photovoltaic Technology Co., Ltd. (a.k.a. Yancheng Trina Solar Guoneng Science & Technology Co., Ltd.)/Trina Solar Yiwu Technology Co., Ltd./Trina Solar (Su Qian) Technology Co., Ltd./Trina Solar (Yancheng Dafeng) Co., Ltd./Changzhou Trina Hezhong Photoelectric Co., Ltd. (a.k.a. Changzhou Trina Hezhong PV Co., Ltd.)/Changzhou Trina Solar Yabang Energy Co., Ltd./Turpan Trina Solar Energy Co., Ltd | 16.79

Disclosure

Commerce intends to disclose to parties to the proceeding the calculations performed for these preliminary results of review under administrative protective order within five days of the date of publication of this notice in the Federal Register in accordance with 19 CFR 351.224(b).

Public Comment

Interested parties may submit case briefs to Commerce no later than 30 days after the date of publication of these preliminary results of review in the Federal Register.¹² Rebuttal briefs may be filed no later than seven days after case briefs are due and may respond only to arguments raised in the case briefs.¹³ A table of contents, list of authorities used, and an executive summary of issues should accompany any briefs submitted to Commerce. The summary should be limited to five pages total, including footnotes.¹⁴

¹² See 19 CFR 351.309(c)(ii).

¹³ See 19 CFR 351.309(d).

¹⁴ See 19 CFR 351.309(c)(2) and (d)(2).

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests for a hearing should contain: (1) the requesting party's name, address, and telephone number; (2) the number of participants and whether any of those individuals is a foreign national; and (3) a list of the issues the party intends to discuss at the hearing. Oral arguments at the hearing will be limited to issues raised in the case and rebuttal briefs. If a request for a hearing is made, Commerce will announce the date and time of the hearing. Parties should confirm the date and time of the hearing two days before the scheduled hearing date.

All submissions to Commerce, with limited exceptions, must be filed electronically using ACCESS. An electronically filed document must be received successfully in its entirety by Commerce's electronic records system, ACCESS, by 5:00 p.m. Eastern Time on the due date.¹⁵ Note that Commerce has temporarily modified certain of its requirements for serving documents containing business proprietary information, until further notice.¹⁶

¹⁵ See 19 CFR 351.303 (for general filing requirements); Antidumping and Countervailing Duty Proceedings: Electronic Filing Procedures; Administrative Protective Order Procedures, 76 FR 39263 (July 6, 2011).

¹⁶ See Temporary Rule Modifying AD/CVD Service Requirements Due to COVID-19; Extension of Effective Period, 85 FR 41363 (July 10, 2020).

Final Results of Review

Unless otherwise extended, Commerce intends to issue the final results of this administrative review, which will include the results of its analysis of issues raised in any briefs, within 120 days of publication of these preliminary results of review in the Federal Register, pursuant to section 751(a)(3)(A) of the Act.

Assessment Rates

Upon issuance of the final results of this review, Commerce will determine, CBP shall assess, antidumping duties on all appropriate entries of subject merchandise covered by this review.¹⁷ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

¹⁷ See 19 CFR 351.212(b)(1).

Commerce intends to calculate importer/customer-specific ad valorem assessment rates by dividing the total amount of dumping calculated for all reviewed U.S. sales to the importer or customer by the total entered value of the merchandise sold to the importer/customer.¹⁸ Where the weighted-average dumping margin or an importer/customer-specific ad valorem assessment rate is not zero or de minimis, Commerce will instruct CBP to collect the appropriate duties at the time of liquidation. Where either Trina's ad valorem weighted-average dumping margin is zero or de minimis, or an importer/customer-specific ad valorem assessment rate is zero or de minimis, we will instruct CBP to liquidate appropriate entries without regard to antidumping duties.¹⁹

¹⁸ See 19 CFR 351.212(b)(1); see also Antidumping Proceedings: Calculation of the Weighted Average Dumping Margin and Assessment Rate in Certain Antidumping Proceedings: Final Modification, 77 FR 8101 (February 14, 2012) (Final Modification).

¹⁹ See Final Modification, 77 FR at 8103.

Pursuant to a refinement to Commerce's assessment practice,²⁰ where sales of subject merchandise exported by an individually examined respondent were not reported in the U.S. sales data submitted by the respondent, but the merchandise was entered into the United States during the POR, we will instruct CBP to liquidate any entries of such merchandise at the assessment rate for antidumping duties for the China-wide entity. Additionally, where Commerce determines that an exporter under review had no shipments of subject merchandise during the POR, any suspended entries of subject merchandise that entered under that exporter's CBP case number during the POR will be liquidated at the assessment rate for antidumping duties for the China-wide entity.

²⁰ See Non-Market Economy Antidumping Proceedings: Assessment of Antidumping Duties, 76 FR 65694 (October 24, 2011), for a full discussion of this practice.

In accordance with section 751(a)(2)(C) of the Act, the final results of this review shall be the basis for the assessment of antidumping duties on entries of merchandise covered by the review and for future deposits of estimated antidumping duties, where applicable.

Cash Deposit Requirements

The following cash deposit requirements will be in effect for all shipments of subject merchandise entered, or withdrawn from warehouse, for consumption on, or after, the date of publication of the notice of the final results of this administrative review in the Federal Register, as provided for by section 751(a)(2)(C) of the Act: (1) the cash deposit rate for Trina will be equal to the weighted-average dumping margin calculated for Trina in the final results of this review (except, if the rate is de minimis, then the cash deposit rate will be zero); (2) for a previously investigated or reviewed exporter of subject merchandise not listed in the final results of review that has a separate rate, the cash deposit rate will continue to be the exporter's existing cash deposit rate; (3) for all China exporters of subject merchandise that do not have a separate rate, the cash deposit rate will be equal to the weighted-average dumping margin assigned to the China-wide entity, which is 154.84 percent; and (4) for a non-China exporter of subject merchandise that does not have a separate rate, the cash deposit rate will be equal to the weighted-average dumping margin applicable to the China exporter(s) that supplied that non-China exporter. These cash deposit requirements, when imposed, shall remain in effect until further notice.

Notification to Importers

This notice also serves as a preliminary reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred, and the subsequent assessment of double antidumping duties, and/or an increase in the amount of antidumping duties by the amount of the countervailing duties.

Notification to Interested Parties

We are issuing and publishing these preliminary results of review in accordance with sections 751(a)(1) and 777(i)(1) of the Act and 19 CFR 351.213 and 351.221(b)(4).

Dated: February 28, 2023.
Abdelali Elouaradia,
Deputy Assistant Secretary for Enforcement and Compliance.

Appendix I

List of Topics Discussed in the Preliminary Decision Memorandum

I. Summary

II. Background

III. Period of Review

IV. Scope of the Order

V. Partial Rescission of Administrative Review

VI. Preliminary Determination of No Shipments

VII. Single Entity Treatment

VIII. Discussion of the Methodology

IX. Currency Conversion

X. Recommendation

Appendix II

Companies/Company Groupings for Which the Administrative Review Is Being Rescinded

1. Anji Dasol Solar Energy Science & Technology Co., Ltd.

2. BYD (Shangluo) Industrial Co., Ltd.

3. Canadian Solar International Limited.

4. Canadian Solar Manufacturing (Changshu) Inc.

5. Canadian Solar Manufacturing (Luoyang) Inc.

6. Chint Energy (Haining) Co., Ltd.; Chint Solar (Hong Kong) Company Limited; Chint Solar (Jiuquan) Co., Ltd.; Chint Solar (Zhejiang) Co., Ltd.; Chint New Energy Technology (Haining) Co. Ltd.

7. CSI Cells Co., Ltd.

8. CSI Solar Power (China) Inc.

9. CSI-GCL Solar Manufacturing (Yancheng) Co., Ltd.

10. De-Tech Trading Limited HK.

11. Hefei JA Solar Technology Co., Ltd.

12. Hengdian Group DMEGC Magnetics Co. Ltd.

13. JA Solar Co., Ltd.

14. JA Solar Technology Yangzhou Co., Ltd.

15. Jiangsu Jinko Tiansheng Solar Co., Ltd.

16. Jiawei Solarchina (Shenzhen) Co., Ltd.

17. Jiawei Solarchina Co., Ltd.

18. JingAo Solar Co., Ltd.

19. Jinko Solar Co. Ltd.

20. Jinko Solar Import and Export Co., Ltd.

21. Jinko Solar International Limited.

22. JinkoSolar Technology (Haining) Co., Ltd.

23. Jiujiang Shengchao Xinye Technology Co., Ltd.

24. Jiujiang Shengzhao Xinye Trade Co., Ltd.

25. Lightway Green New Energy Co., Ltd.

26. Longi (HK) Trading Ltd.

27. Longi Solar Technology Co. Ltd.; Lerri Solar Technology Co., Ltd.

28. Luoyang Suntech Power Co., Ltd.

29. Ningbo ETDZ Holdings, Ltd.

30. Ningbo Qixin Solar Electrical Appliance Co., Ltd.

31. Perlight Solar Co., Ltd.

32. Renesola Jiangsu Ltd.

33. ReneSola Zhejiang Ltd.

34. Risen (Luoyang) New Energy Co., Ltd.

35. Risen (Wuhai) New Energy Co., Ltd.

36. Risen Energy Co. Ltd.; Risen Energy (Changzhou) Co., Ltd.

37. Ruichang Branch, Risen Energy (HongKong) Co., Ltd.

38. Shanghai BYD Co., Ltd.

39. Shenzhen Sungold Solar Co., Ltd.

40. Shenzhen Topray Solar Co., Ltd.

41. Shenzhen Yingli New Energy Resources Co., Ltd.; Baoding Jiasheng PhotovoltaicTechnology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited.

42. Sumec Hardware & Tools Co., Ltd.

43. Sunny Apex Development Ltd.

44. Suntech Power Co., Ltd.

45. Taizhou BD Trade Co., Ltd.

46. tenKsolar (Shanghai) Co., Ltd.

47. Wuxi Suntech Power Co., Ltd.

48. Wuxi Tianran Photovoltaic Co., Ltd.

49. Xiamen Yiyusheng Solar Co., Ltd.

50. Yingli Green Energy International Trading Company Limited.

51. Yuhuan Jinko Solar Co., Ltd.

52. Zhejiang Aiko Solar Energy Technology Co., Ltd.

53. Zhejiang Jinko Solar Co., Ltd.

54. Zhejiang Twinsel Electronic Technology Co., Ltd.

[FR Doc. 2023-04854 Filed 3-8-23; 8:45 am]

BILLING CODE 3510-DS-P